NUCLEAR WASTE TECHNICAL REVIEW BOARD

Board Meeting

December 2-3, 2020—The U.S. Nuclear Waste Technical Review Board will hold an online virtual public meeting to review information on the U.S. Department of Energy's non-site-specific geologic disposal research and development program.

Pursuant to its authority under section 5051 of Public Law 100-203, Nuclear Waste Policy Amendments Act (NWPAA) of 1987, the U.S. Nuclear Waste Technical Review Board will hold an online virtual public meeting on Wednesday, December 2, 2020, and Thursday, December 3, 2020, to review information on U.S. Department of Energy (DOE) non-site-specific geologic disposal research and development (R&D) program.

The meeting will begin on both days at 12:00 p.m. Eastern Standard Time (EST) and is scheduled to adjourn at 5:00 p.m. EST on both days. Speakers representing the DOE Office of Nuclear Energy and the national laboratories conducting the work for DOE will report on DOE's non-site-specific geologic disposal R&D program. Speakers will describe DOE's program, including its purpose, scope, goals, technical approach, and prioritization of activities. Three presentations will address the reference disposal concepts and key considerations for a repository sited in either crystalline, salt, and argillite rock. Two speakers from abroad will describe geologic disposal research strategies in Europe. Next, speakers from the national laboratories will present DOE's R&D activities, and their prioritization, in other program areas that address multiple disposal concepts. These speakers will address the disposal of dual-purpose canisters, geologic disposal safety assessment, engineered barrier systems, and will describe a disposal concept and key considerations for an unsaturated alluvium reference case. The last presentation will address prioritization of international activities and DOE's Disposal Research 5-year Plan. A detailed meeting agenda will be available on the Board's website approximately one week before the meeting.

The meeting will be open to the public, and opportunities for public comment will be provided. Details on how to comment publicly during the meeting will be provided on the Board's website along with the details for viewing the meeting. A limit may be set on the time allowed for the presentation of individual remarks. However, written comments of any length may be submitted to the Board staff by mail or electronic mail. All comments received in writing will be included in the meeting record, which will be posted on the Board's website after the meeting. An archived recording of the meeting will be available on the Board's website following the meeting. The transcript of the meeting will be available on the Board's website by February 3, 2021.

The Board was established in the Nuclear Waste Policy Amendments Act of 1987 as an independent federal agency in the Executive Branch to evaluate the technical and scientific validity of DOE activities related to the management and disposal of spent nuclear fuel and high-level radioactive waste, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Bret Leslie at leslie@nwtrb.gov or by phone 703-235-9132; or Jo Jo Lee at lee@nwtrb.gov or by phone 703-235-4485. For information on logistics, or to request copies of the meeting agenda or transcript, contact Davonya Barnes at barnes@nwtrb.gov or by phone 703-235-9141. All three may be reached by mail at 2300 Clarendon Boulevard, Suite 1300, Arlington, VA 22201-3367; or by fax at 703-235-4495.

Dated: November 17, 2020.
Nigel Mote,
Executive Director, U.S. Nuclear Waste Technical Review Board.

[FR Doc. 2020-25724 Filed 11-20-20; 8:45 am]

BILLING CODE 6820-AM-P